DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Regina D. Horvat, Ph.D., Northwestern University: Based on the report of an inquiry conducted by Northwestern University (NU Report), the respondent's admission, and additional analysis conducted by ORI in its oversight review, the U.S. Public Health Service (PHS) found that Regina D. Horvat, Ph.D., former Postdoctoral Fellow, Department of Cell and Molecular Biology at NU, engaged in scientific misconduct in research supported in part by the following National Institute of Child Health and Human Development (NICHD), National Institutes of Health (NIH) grants: F32 HD041309, RO1 HD38060-01A1, and T32 HD007068.¹

¹ The T32 award cited in the manuscript was T32 HD21021. A search of the CRISP database showed the correct grant number was T32 HD007068.

Specifically, PHS found that:

• Dr. Horvat falsified a western blot of an immunoprecipitation (IP) assay presented as Figure 5B in a manuscript (“Inhibition of Luteinizing Hormone Receptor Desensitization Suppresses the Induction of Ovulatory Response Genes in Granulosa Cells”) submitted to Molecular Endocrinology. Dr. Horvat falsely labeled an autoradiogram in her laboratory notebook with a piece of tape to misrepresent the data from a different IP experiment that was actually conducted on October 31, 2001, as the experiment described in Figure 5B. Further, Dr. Horvat falsely used Figure 5B in an oral presentation at a national scientific meeting; and

• Dr. Horvat falsified the intensity of the band in Lane 6 of a luteinizing hormone receptor (LHR) Western blot experiment to quantitate the level of LHR immunoprecipitated with an arrestin2 antibody in cells treated with hCG for 30 minutes in the PowerPoint figure, prepared in response to the initial review of the Molecular Endocrinology manuscript. This manuscript was withdrawn.

Dr. Horvat has entered into a Voluntary Exclusion Agreement (Agreement) in which she has voluntarily agreed for a period of three (3) years, beginning on June 2, 2004:

(1) To exclude herself from serving in any advisory capacity to PHS including but not limited to service on any PHS advisory committee, board, and/or peer review committee, or as a consultant; and

(2) That any institution which submits an application for PHS support for a research project on which the Respondent's participation is proposed or which uses the Respondent in any capacity on PHS supported research, or that submits a report of PHS-funded research in which the Respondent is involved, must concurrently submit a plan for supervision of the Respondent's duties to the funding agency for approval. The supervisory plan must be designed to ensure the scientific integrity of the Respondent's research contribution. Respondent agrees to ensure that a copy of the supervisory plan is also submitted to ORI by the institution. Respondent agrees that she will not participate in any PHS-supported research until such a supervision plan is submitted to and accepted by ORI.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 04-14475 Filed 6-24-04; 8:45 am]

BILLING CODE 4150-31-P